NATIONAL SCIENCE FOUNDATION

Sunshine Act Meeting; National Science Board; Correction

The National Science Board, pursuant to NSF regulations (45 CFR part 614), the National Science Foundation Act, as amended (42 U.S.C. 1862n-5), and the Government in the Sunshine Act (5 U.S.C. 552b), hereby amends the notice of the scheduling of a teleconference for the transaction of National Science Board business to add an agenda item. The original notice was published in the Federal Register on January 7, 2020 at 85 FR 728.

TIME AND DATE: Closed teleconference of the Committee on Strategy of the National Science Board, to be held Monday, January 13, 2020 from 4:00-5:00 p.m. EST.

PLACE: This meeting will be held by teleconference at the National Science Foundation, 2415 Eisenhower Avenue, Alexandria, VA 22314.

STATUS: Closed.

MATTERS TO BE CONSIDERED: Committee Chair's opening remarks; Approval of prior meeting minutes; Update on NSF's Fiscal Year 2021 budget passback and budget request to Congress.

In addition, the Committee on Strategy will discuss NSF's approach to the FY2020 Current Plan in response to appropriations language.

CONTACT PERSON FOR MORE INFORMATION: Point of contact for this meeting is: Kathy Jacquart, 2415 Eisenhower Avenue, Alexandria, VA 22314. Telephone: (703) 292-7000.

You may find meeting information and updates (time, place, subject matter or status of meeting) at https://www.nsf.gov/nsb/meetings/notices.jsp#sunshine. Please refer to the National Science Board website at www.nsf.gov/nsb for general information.

Chris Blair,
Executive Assistant to the National Science Board Office.

[FR Doc. 2020-00595 Filed 1-13-20; 11:15 am]

BILLING CODE 7555-01-P